DEPARTMENT OF LABOR

Employment and Training Administration

Proposed Information Collection Request Submitted for Public Comment and Recommendations; Reporting and Performance Standards System for the Migrant and Seasonal Farm Worker Program Under Title I, Section 167 of the Workforce Investment Act (WIA) of 1998

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Employment and Training Administration (ETA) is soliciting comments on revised reporting requirements for the Migrant and Seasonal Farm Worker (MSFW) program. This information collection request is necessary in order to collect data for calculating a set of common performance measures of the outcomes achieved by the MSFW program.

DATES: Submit comments on or before October 11, 2005.

ADDRESSES: Send comments to: Mr. John R. Beverly, Administrator, Office of National Programs, Employment and Training Administration, U.S. Department of Labor, 200 Constitution Avenue, NW., Room C-4312, Washington, DC 20210; telephone: (202) 693-3840 (this is not a toll-free number); fax: (202) 693-3589; e-mail: ETAperforms@dol.gov.

FOR FURTHER INFORMATION CONTACT: Ms. Alina Walker, Chief, Division of Migrant and Seasonal Farm Workers, Employment and Training Administration, U.S. Department of Labor, 200 Constitution Avenue, NW., Room S-4206, Washington, DC 20210; telephone: (202) 693-2706 (this is not a toll-free number); fax: (202) 693-3945; e-mail: ETAperforms@dol.gov.

SUPPLEMENTARY INFORMATION:

I. Background

Each grantee administering funds under the MSFW program is required to submit a program planning report (ETA Form 9094), a budget information summary report (ETA Form 9093), and a quarterly program status report (ETA Form 9095). This latter form contains information related to levels of participation and service, related assistance activities, and actual placements in employment. In addition, each grantee submits a quarterly file of individual records on all participants who exit the program, called the Workforce Investment Act Standardized Participant Record (WIASPR).

In 2001, under the President's Management Agenda, OMB and other Federal agencies developed a set of common performance measures to be applied to certain federally-funded employment and training programs with similar strategic goals. As part of this initiative, ETA initially issued Training and Employment Guidance Letter (TEGL) 15-03 and has more recently issued TEGL 28-04, Common Measures Policy, which rescinded TEGL 15-03 and reflected updates to the policy. The value of implementing common measures is the ability to describe in a similar manner the core purposes of the workforce system—how many people found jobs; did they keep their jobs; and what were their earnings. Multiple sets of performance measures have burdened states and grantees as they are required to report performance outcomes based on varying definitions and methodologies. By minimizing the different reporting and performance requirements, implementing a set of common performance measures can facilitate the integration of service delivery, reduce barriers to cooperation among programs, and enhance the ability to assess the effectiveness and impact of the workforce investment system, including the performance of the system in serving individuals facing significant barriers to employment.

The common measures are an integral part of ETA's performance accountability system, and ETA will continue to collect from grantees the data on program activities, participants, and outcomes that are necessary for program management and to convey full and accurate information on the performance of workforce programs to policymakers and stakeholders.

This revision to the MSFW program reporting system identifies a minimum level of information collection that is necessary to comply with Equal Opportunity requirements, holds grantees appropriately accountable for the Federal funds they receive, assesses progress against a set of common performance measures, and allows the Department to fulfill its oversight and management responsibilities.

The Employment and Training Administration is proposing similar changes to the reporting requirements for the WIA Title 1B, Wagner-Peyser Act, and Trade Adjustment Assistance programs. Please note that ETA will seek comments regarding changes to information collection for these programs in separate Federal Register notices.

The following three adult common performance measures apply to grantees of the MSFW program:

• Entered Employment.

• Employment Retention.

• Six Months Earnings Increase.

Grantees are currently required to submit data according to measures established under the Government Performance and Results Act (GPRA), which include entered employment, retention, and earnings increase. While the GPRA measures for the MSFW program are similar to the common measures, the data elements that are needed to do the calculations are slightly different, requiring modifications to the definitions and record layout of the WIASPR. Important changes to note on the WIASPR include the following:

• Elimination of all fields that collect information on youth served by the MSFW program due to recent budgetary actions.

• Elimination of data collection fields associated with the current MSFW performance standards system to incorporate data for calculating common performance measures.

• A change in the field that tracks the reason the participant exited the MSFW program, because participants who exited due to certain reasons, such as becoming institutionalized, are excluded from calculations of common measures.

• Addition of three fields to track whether the participant was employed in the first, second, and third quarters after program exit, which are used to calculate the common measures.

• Addition of fields to capture wages earned by the participant in the 1st quarter after program exit and over a six-month period covering the 2nd and 3rd quarters after program exit to calculate the earnings increase measure.

II. Desired Focus of Comments

Currently, the Department is soliciting comments concerning the revised information collection request for the MSFW program in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Revision.

Agency: Department of Labor, Employment and Training Administration.

Title: Reporting and Performance Standards System for the Migrant and Seasonal Farm Worker Program under Title I, Section 167 of the Workforce Investment Act (WIA).

OMB Number: 1205-0425.

Recordkeeping: Three years for States and grantees.

Affected Public: State, local or tribal governments; not-for-profit institutions.

Cite/Reference/Form/etc: Section 167, Workforce Investment Act of 1998 (Pub. L. 105-220), see table below for list of forms.

Total Respondents: 53 States and grantees.

Frequency: Annually and quarterly.

Total Responses: 159 submissions annually and 29,712 quarterly—grantees submits an ETA 9095 form and WIASPR files each quarter.

Estimated Total Burden Hours:

Form/activity | Total respondents | Frequency | Total responses | Average time per response | Total annual burden hours
Plan Narrative | 53 | Annual | 53 | 20 | 1,060
ETA 9093 | 53 | Annual | 53 | 15 | 795
ETA 9094 | 53 | Annual | 53 | 16 | 848
ETA 9095 | 53 | Quarterly | 212 | 7 | 1,484
WIASPR Data | 53 | Quarterly | 29,500 | 2.25 | 66,375
Totals | 53 |  | 29,871 | 60.25 | 70,562

Total Burden Cost (capital/startup): $0.

Total Burden Cost (operating/maintaining): $0.

Comments submitted in response to this notice will be summarized and/or included in the request for OMB approval of the information collection request; they will also become a matter of public record.

Signed in Washington, DC, on August 3, 2005.
Emily Stover DeRocco,
Assistant Secretary for Employment and Training.

[FR Doc. E5-4324 Filed 8-9-05; 8:45 am]

BILLING CODE 4510-30-P